DEPARTMENT OF THE INTERIOR

Bureau of Land Management

[AK-910-02-1410-PG]

Notice of Availability of Proposed East Alaska Resource Management Plan and Final Environmental Impact Statement

AGENCY: Bureau of Land Management, Interior

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a proposed Resource Management Plan/Final Environmental Impact Statement (PRMP/FEIS) for the East Alaska Planning Area.

DATES: The BLM Planning Regulations (43 CFR 1610.5-2) state that any person who participated in the planning process, and has an interest which is or may be adversely affected, may protest BLM's approval or amendment of a RMP. You must file a protest within 30 days of the date that the Environmental Protection Agency publishes their Notice of Availability in the Federal Register. Instructions for filing of protests are described in the Dear Reader letter of the Proposed East Alaska RMP/Final EIS and in the SUPPLEMENTARY INFORMATION section of this notice.

FOR FURTHER INFORMATION CONTACT: Bruce Rogers, BLM Glennallen Field Office, P.O. Box 147 Glennallen, AK 99588, (907) 822-3217, brogers@ak.blm.gov.

SUPPLEMENTARY INFORMATION: The East Alaska RMP planning area covers 7.1 million acres of BLM-administered lands. The Proposed East Alaska RMP/Final EIS focuses on the principles of multiple use and sustained yield as prescribed by Section 202 of the Federal Land Policy and Management Act of 1976 (FLPMA). The Proposed East Alaska RMP/Final EIS considers and analyzes four alternatives, including a No Action and a Preferred Alternative. The alternatives provide for an array of variable levels of commodity production and resource protection and restoration. The alternatives were developed based on extensive public scoping and involvement.

There are seven main issues addressed through this planning process.

Issue 1, Travel Management, addresses management of access, roads, and the use of off-highway vehicles (OHV) for various purposes, including recreation, commercial uses, subsistence activities, and the general enjoyment of public lands while protecting natural and cultural resources.

Issue 2, Recreation, examines how recreation should be managed to provide a diversity of experiences on BLM-managed lands. The document analyzes what measures are necessary to ensure that a diversity of recreational opportunities is maintained and what level of commercial recreational use is appropriate to maintain a diversity of recreational opportunities.

Issue 3, Special Resource Values, focuses on those unique, special values located within the planning area that were identified by resource specialists and the public, and includes discussions on wildlife, fisheries, soil, water, air, vegetation, and consideration of Areas of Critical Environmental Concern (ACECs) to protect special resource values.

Issue 4, Lands and Realty, addresses the need to determine the appropriate mix of lands and realty actions needed to provide a balance between land use and resource protection. Special attention is paid to the Slana settlement area, and the establishment of conditions that would make the area available for disposal while considering the effects of disposal on the social and environmental conditions of the area.

Issue 5, Vegetation Management, examines management to provide for forest health, personal and commercial wood products, fish and wildlife habitat, and the role of fire.

Issue 6, Leasable and Locatable Minerals, addresses the need to determine which areas should be made available for mineral exploration and development.

Issue 7, Subsistence/Social and Economic Conditions, examines the need to maintain and protect subsistence opportunities and resources, as well as how the management actions, guidelines, and allowable uses described under the other issues will affect subsistence opportunities and resources. This discussion also addresses social and economic effects.

The public involvement and collaboration process included 30 public scoping meetings, 17 alternative development meetings, 7 public meetings on the Draft, and meetings with Native and Village Corporations. The State of Alaska is participating in the planning effort as an informal cooperator.

Public Land Order 5150 withdrew land within the planning area to establish the Trans-Alaska Pipeline Utility Corridor. The BLM's preferred alternative is to maintain most of this corridor in Federal ownership, with the exception of 82,500 acres north of Paxson. These 82,500 acres provide less than ten percent of the average annual subsistence harvest taken off of Federal lands.

Alternative B of the Proposed RMP/Final EIS proposes the revocation of Public Land Order 5150. This revocation would allow the conveyance of these lands to the State of Alaska. This possibility raised much controversy with the local community and Native groups as it would eliminate 63% of the land area available for federal subsistence hunting in Game Management Unit 13. Approximately 80% of the harvest in Unit 13 is taken from lands within PLO 5150 because of its location within the migration corridor of the Nelchina Caribou Herd and the ease with which it can be accessed from the Richardson Highway. The Alaska National Interest Lands Conservation Act (ANILCA) section 810 analysis, included as an appendix in the Proposed RMP/Final EIS, concludes that Alternative B has the clear potential to significantly restrict subsistence uses. Seven subsistence hearings were held throughout the planning area to gather public testimony on the impacts of Alternative B on subsistence. BLM hosted a special session of the Southcentral Subsistence Advisory Committee to facilitate the committee hearing testimony and submitting formal comment on the issue before the deadline for public comment.

The Draft RMP/EIS considered four ACECs. A significant percentage of the total comments submitted during the 90-day comment period pertained to ACECs. The Proposed RMP/Final EIS identifies one ACEC for designation, the Bering Glacier Research Natural Area (RNA) which contains 827,000 acres of land. This area encompasses the Bering Glacier and the surrounding glacially influenced landscape. Measures to protect unique ecological values associated with the glacier and glacier forelands include: (1) OHVs limited to designated trails; (2) new road and airstrip construction would be permitted only if consistent with the protection of the values identified; (3) withdrawals prohibiting mineral entry or leasing would be maintained in the western two-thirds of the area; (4) no FLPMA 302 leases or permits unless associated with research activities; (5) visitor use limits developed for Special Recreation Permits; and (6) no heli-recreation activities would be permitted.

All comments received on the plan were systematically analyzed and evaluated. Appendix J of the Proposed RMP/Final EIS outlines all substantive comments received and BLM's responses to those comments. Comments on the Draft RMP/EIS received from the public and internal BLM review comments were incorporated into the proposed plan. Public comments resulted in several changes to the preferred alternative and in the addition of clarifying text. A summary of these changes is included at the beginning of the Proposed RMP/Final EIS.

The Proposed Plan will help BLM meet its mandate of multiple use and sustained yield and recommends the designation of four new Special Recreation Management Areas (SMRAs) and one Research Natural Area (RNA). Restrictions on uses or activities within the SRMAs and RNA will be limited to those necessary to prevent degradation of the relevant and important values for which an area is designated.

Copies of the Proposed East Alaska RMP/Final EIS have been sent to affected Federal, State, and Local Government agencies and to interested parties. Copies of the Proposed RMP/Final EIS are available for public inspection at the BLM Glennallen Field Office located at Mile 186.5 Glenn Highway, Glennallen, Alaska during normal business hours from 8 a.m. to 4:30 p.m. Monday through Friday except holidays. Copies of the Proposed RMP/Final EIS have been sent to individuals, agencies, and groups as requested or as required by regulation or policy. Interested persons may also review the proposed RMP/Final EIS on the Internet at www.ak.blm.gov/gdo/landplan/index.html or at one of the following locations in and around the planning area:

BLM Anchorage Field Office, Anchorage.

BLM Northern District Office, Fairbanks.

BLM Alaska State Office, Public Room, Anchorage.

Chugach National Forest Service, Cordova.

Copper Valley Community Library, Glennallen.

Delta Junction Community Library, Delta Junction.

Denali Borough Office, Healy.

Kenny Lake Community Library, Kenny Lake.

Loussac Library, Anchorage.

Mat-Su Borough Office, Palmer.

National Park Service, Wrangell-St. Elias, Copper Center.

National Park Service, Denali, McKinley Village.

Noel Wien Library, Fairbanks.

North Pole Library, North Pole.

Valdez Public Library, Valdez.

Yakutat Borough Office, Yakutat.

Instructions for filing a protest with the Director of the BLM regarding the Proposed Plan/Final EIS may be found at 43 CFR 1610.5-2. A protest may only raise those issues which were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov.

Please direct the follow-up letter to the appropriate address provided below.

The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the State Director's decision is wrong.

All protests must be in writing and mailed to one of the following addresses:

Regular Mail: Director (210), Attention: Brenda Williams, P.O. Box 66538, Washington, DC 20035.

Overnight Mail: Director (210), Attention: Brenda Williams, 1620 L Street, NW., Suite 1075, Washington, DC 20036.

Individual respondents may request confidentiality. If you wish to withhold your name or street address from public review or from disclosure under the Freedom of Information Act, you must state this prominently at the beginning of your protest. Such requests will be honored to the extent allowed by law. All submissions from organizations and businesses, and from individuals identifying themselves as representatives or officials of organizations or businesses, will be available for public inspection in their entirety.

The Director will promptly render a decision on the protest. The decision will be in writing and will be sent to the protesting party by certified mail, return receipt requested. The decision of the Director is the final decision of the Department of the Interior.

Dated: April 6, 2006.
Henri Bisson,
Alaska State Director.

[FR Doc. E6-10785 Filed 7-7-06; 8:45 am]

BILLING CODE 4310-JA-P